DEPARTMENT OF COMMERCE

International Trade Administration

[A-533-810]

Stainless Steel Bar From India; Extension of Time Limit for the Preliminary Results of the Antidumping Duty Administrative Review

AGENCY: Import Administration, International Trade Administration, Department of Commerce.

ACTION: Notice of extension of time limit.

SUMMARY: The Department of Commerce is extending the time limit for the preliminary results of the administrative review of the antidumping duty order on stainless steel bar from India. The period of review is February 1, 2001, through January 31, 2002. This extension is made pursuant to section 751(a)(3)(A) of the Tariff Act of 1930, as amended by the Uruguay Round Agreements Act.

EFFECTIVE DATE: October 22, 2002.

FOR FURTHER INFORMATION CONTACT: Cole Kyle or Shawn McMahon, Office 1, Import Administration, International Trade Administration, U.S. Department of Commerce, 14th Street and Constitution Avenue, NW., Washington, DC 20230; at telephone (202) 482-1503 and 482-1698, respectively.

Applicable Statute

Unless otherwise indicated, all citations to the statute are references to the provisions effective January 1, 1995, the effective date of the amendments made to the Tariff Act of 1930 (“the Act”) by the Uruguay Round Agreements Act and all citations to the regulations are to 19 CFR Part 351 (2001).

Statutory Time Limits

Section 751(a)(3)(A) of the Act requires the Department of Commerce (“the Department”) to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

Background

On March 27, 2002, the Department published a notice of initiation of administrative review of the antidumping duty order on stainless steel bar from India covering the period February 1, 2001, through January 31, 2002 (67 FR 14696). The preliminary results for the antidumping duty administrative review of stainless steel bar from India are currently due no later than October 31, 2002.

Extension of Time Limits for Preliminary Results

Several of the respondents in this proceeding have outstanding supplemental questionnaire responses. Because the Department requires time to review and analyze these responses once they are received, it is not practicable to complete this review within the originally anticipated time limit (i.e., October 31, 2002). Therefore, the Department is extending the time limit for completion of the preliminary results to no later than February 28, 2003, in accordance with section 751(a)(3)(A) of the Act.

We are issuing and publishing this notice in accordance with sections 751(a)(1) and 777(i)(1) of the Act.

Dated: October 16, 2002.
Louis Apple,
Acting Deputy Assistant Secretary for AD/CVD Enforcement.

[FR Doc. 02-26860 Filed 10-21-02; 8:45 am]

BILLING CODE 3510-DS-P